NATIONAL TRANSPORTATION SAFETY BOARD

Investigative Hearing

On November 30, 2012, at 6:59 a.m. eastern standard time, southbound Consolidated Rail Corporation (Conrail) freight train FC4230, consisting of 2 locomotives and 82 cars, derailed 7 cars near milepost 13.7 on the Conrail Penn's Grove secondary track in Paulsboro, New Jersey. The derailment occurred while the train crossed a movable bridge over Mantua Creek, resulting in 4 tank cars leaving the bridge and coming to rest partially submerged in Mantua Creek. As a result of the derailment, the coupler on one tank car punctured another tank car, releasing an estimated 180,000 pounds of liquid vinyl chloride into Mantua Creek; the vinyl chloride vaporized and dispersed with the prevailing winds. Primarily used to make polyvinyl chloride (PVC), vinyl chloride is a highly flammable, colorless gas and a known carcinogen that may have an effect on the nervous system, eyes, liver, and respiratory tract through airborne exposure. The weather at the time was cloudy skies and calm winds with a temperature of 34°F.

The 911 communications center was notified of the release at 7:01 a.m., and the first responders to the accident were members of the Paulsboro Fire and Police departments, assisted by hazardous materials specialists from a nearby refinery and the Gloucester County hazardous materials team. The first incident command was established about 50 yards from the bridge but was later moved a half mile away. Evacuation orders were imposed by local authorities shortly after the release, but subsequently were replaced with shelter-in-place recommendations. About 8 hours into the release, a unified command was established among the United States Coast Guard, New Jersey Department of Environmental Protection, Paulsboro Fire Department, and Conrail. On the morning of the accident, 23 local residents were treated at a nearby hospital for possible vinyl chloride exposure. The train conductor and numerous emergency responders were also tested for vinyl chloride exposure.

The investigative hearing will discuss Conrail operations and the emergency response to the hazardous materials release. Specific areas being discussed include Conrail bridge operations, Conrail procedures, incident command actions and emergency response decisions in the first day, hazardous materials emergency response operations, roles of the response teams, evacuations and communications, incident response protocols, hazmat training, oversight of Paulsboro emergency preparedness, roles of local, state and Federal agencies in emergency hazmat response, and interaction between state and Federal agencies in establishing a unified command. The goals of this hearing are to gather additional factual information regarding the actions of the first responders in Paulsboro, to explore the hierarchy of New Jersey State and local emergency management, training, regulations and standards applicable to emergency response personnel, and to examine the oversight of the Paulsboro emergency operations.

Parties to the hearing include the Federal Railroad Administration, Pipeline and Hazardous Materials Safety Administration, United States Coast Guard, Conrail, Borough of Paulsboro, State of New Jersey, Brotherhood of Locomotive Engineers and Trainmen, and the United Transportation Union.

At the start of the hearing, the public docket will be opened. Included in the docket are photographs, interview transcripts, and numerous other documents.

Order of Proceedings

1. Opening Statement by the Chairman of the Board of Inquiry

2. Introduction of the Board of Inquiry and Technical Panel

3. Introduction of the Parties to the Hearing

4. Introduction of Exhibits by Hearing Officer

5. Overview of the incident and the investigation by Investigator-In-Charge

6. Calling of Witnesses by Hearing Officer and Examination of Witness by Board of Inquiry, Technical Panel, and Parties

7. Closing Statement by the Chairman of the Board of Inquiry

The accident docket is DCA13MR002.

The Investigative Hearing will be held in the NTSB Board Room and Conference Center, located at 429 L'Enfant Plaza E. SW., Washington, DC, Tuesday, July 9, and Wednesday, July 10, 2013, beginning at 9:00 a.m. The public can view the hearing in person or by live webcast at www.ntsb.gov. Webcast archives are generally available by the end of the next day following the hearing, and webcasts are archived for a period of 3 months from after the date of the event.

Individuals requesting specific accommodations should contact Ms. Rochelle Hall at (202) 314-6305 or by email at Rochelle.Hall@ntsb.gov by Friday, July 5, 2013.

NTSB Media Contact: Mr. Terry Williams—terry.williams@ntsb.gov.

NTSB Investigative Hearing Officer: Mr. Matthew Nicholson—matthew.nicholson@ntsb.gov.

Dated: June 24, 2013.
Candi R. Bing,
Federal Register Liaison Officer.

[FR Doc. 2013-15495 Filed 6-27-13; 8:45 am]

BILLING CODE 7533-01-P